DEPARTMENT OF DEFENSE

Department of the Air Force

Announcement of IS-GPS-200, IS-GPS-705, IS-GPS-800; Interface Control Working Group (ICWG) Meeting

AGENCY: Department of the Air Force, DoD.

ACTION: Meeting notice.

SUMMARY: This notice informs the public that the Global Positioning Systems Wing will be hosting a technical working group meeting for document/s IS-GPS-200D (Navstar GPS Space Segment/Navigation User Interfaces), IS-GPS-705 (Navstar GPS Space Segment/User Segment L5 Interfaces), and IS GPS-800 (Navstar GPS Space Segment/User Segment L1C Interfaces). The meeting will address PIRN/IRN changes incorporated into the documents. The discussion will include addressing those comments submitted from the review of the IS-GPS-200, etc.

This meeting is open to the general public. In order to ensure adequate facilities, you are requested to register to attend the meeting no later than 2 weeks prior to the planned ICWG. Please send registration information to thomas.davis.ctr@losangeles.af.mil and provide your name, organization, telephone number, address, and country of citizenship. More information, including a preliminary agenda, Comments Resolution Matrixes (CRMs), and track changed documents, will be posted at: http://gps.losangeles.af.mil/engineering/icwg.

Please send all CRM comments to Thomas Davis by 9 May 2008.

DATES: 22 May 2008: IS-GPS-800. 23 May 2008: IS-GPS-200D, IS-GPS-705. 8 a.m.-4 p.m.

Location: Los Angeles, CA vicinity (exact location will be announced on the GPS Public Web site—see link above).

FOR FURTHER INFORMATION CONTACT: Thomas Davis, thomas.davis@linquest.com, 1-310-416-8440, or Captain Scott Cunningham scott.cunningham@losangeles.af.mil, 1-310-653-3771.

Bao-Anh Trinh,
Air Force Federal Register Liaison Officer.

[FR Doc. E8-8881 Filed 4-23-08; 8:45 am]

BILLING CODE 5001-05-P